SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 5, 2005.

ADDRESSES: Send all comments regarding whether this information collection is necessary for the proper performance of the function of the agency, whether the burden estimates are accurate, and if there are ways to minimize the estimated burden and enhance the quality of the collection, to Joseph Sobota, Assistant Advocate, Office of Advocacy, Small Business Administration, 409 3rd Street SW., Suite 7800, Washington, DC 20416

FOR FURTHER INFORMATION CONTACT: Joseph Sobota, Assistant Advocate, 202-205-6952, Joseph.sobota@sba.gov. Curtis B. Rich, Management Analyst, 202-205-7030, curtis.rich@sba.sba.

SUPPLEMENTARY INFORMATION: Title: “Veterans Business Ownership Survey”.

Description of Respondents: The general veteran population, veterans business owners and veterans who have a service connected disability.

Form No: N/A.

Annual Responses: 1.

Annual Burden: 400.

Send all comments regarding whether this information collection is necessary for the proper performance of the function of the agency, whether the burden estimates are accurate, and if there are ways to minimize the estimated burden and enhance the quality of the collection, to Randy Christopherson, Director, Denver Finance Center, Small Business Administration, 721 19th Street, Denver, CO 80202.

FOR FURTHER INFORMATION CONTACT: Randy Christopherson, Director, 313-844-0054, Randy.christopherson@sba.gov. Curtis B. Rich, Management Analyst, 202-205-7030, curtis.rich@sba.sba.

SUPPLEMENTARY INFORMATION: Title: “Transaction Report Loans Serviced by Lenders”.

Description of Respondents: Small Business Administration Participating Lenders.

Form No: 172.

Annual Responses: 18,637.

Annual Burden: 3,089.

Jacqueline White,
Chief, Administrative Information Branch.

[FR Doc. 05-19974 Filed 10-4-05; 8:45 am]

BILLING CODE 8025-01-P